DEPARTMENT OF HEALTH AND HUMAN SERVICES

National Institutes of Health

Center for Scientific Review; Amended Notice of Meeting

Notice is hereby given of a change in the meeting of the Developmental Brain Disorders Study Section, October 24, 2013, 08:00 a.m. to October 25, 2013, 05:00 p.m., Melrose Hotel, 2430 Pennsylvania Avenue NW., Washington, DC, 20037 which was published in the Federal Register on October 1, 2013, 78 FR 60298.

The meeting will be on November 26, 2013 from 11:00 a.m. to 3:00 p.m. at the National Institutes of Health, 6701 Rockledge Drive, Bethesda, MD 20892. The meeting is closed to the public.

Dated: November 13, 2013.
Melanie J. Gray,
Program Analyst, Office of Federal Advisory Committee Policy.

[FR Doc. 2013-27596 Filed 11-18-13; 8:45 am]

BILLING CODE 4140-01-P